DEPARTMENT OF TRANSPORTATION

Office of the Secretary

Aviation Proceedings, Agreements Filed During Week Ending July 6, 2001

The following Agreements were filed with the Department of Transportation under provisions of 49 U.S.C. 412 and 414. Answers may be filed within 21 days after the filing of the applications.

Docket Number: OST-2001-10051.

Date Filed: July 3, 2001.

Parties: Members of the International Air Transport Association.

Subject:

PTC COMP 0834 dated July 3, 2001

Mail Vote 131—Resolution 010f

Special Passenger Amending Resolution (remove certain exceptional cost increases adopted at the February/November, 2000 meetings)

Intended effective date: July 15, 2001

Dorothy Y. Beard,
Federal Register Liaison.

[FR Doc. 01-18113 Filed 7-18-01; 8:45 am]

BILLING CODE 4910-62-P